DEPARTMENT OF TRANSPORTATION

Federal Transit Administration

Solicitation of Comments and Notice of Availability of Fiscal Year 2009 Funding for Transit Investments for Greenhouse Gas and Energy Reduction Grants

AGENCY: Federal Transit Administration, DOT.

ACTION: Interim notice of funding availability, request for comments.

SUMMARY: The American Recovery and Reinvestment Act of 2009 (ARRA) appropriated $100 million for a new discretionary grant program for public transportation projects that reduce a transit system's greenhouse gas emissions or result in a decrease in a transit system's energy use. Because of time limitations in ARRA funding, this notice announces the availability of the new grant program, application requirements, and deadlines for submitting grant proposals for funding. However, because the Transit Investments for Greenhouse Gas and Energy Reduction (TIGGER) program is a new grant program, FTA also is accepting comments on the program's provisions and may alter some of the requirements in response to comments.

DATES: Comments must be received by April 7, 2009. Late-filed comments will be considered to the extent practicable. Complete proposals for the TIGGER Grant Program must be submitted by May 22, 2009.

ADDRESSES: For Comments: You must include the agency name (Federal Transit Administration) and the docket number (FTA-2009-0013) with your comments. To ensure your comments are not entered into the docket more than once, please submit comments, identified by the docket number (FTA-2009-0013) by only one of the following methods:

1. Web site: The U.S. Government electronic docket site is www.regulations.gov. Go to this Web site and follow the instructions for submitting comments into docket number FTA-2009-0013;

2. Fax: Telefax comments to 202-493-2251;

3. Mail: Mail your comments to U.S. Department of Transportation, 1200 New Jersey Avenue SE., Docket Operations, M-30, Room W12-140, Washington, DC 20590; or

4. Hand Delivery: Bring your comments to the U.S. Department of Transportation, 1200 New Jersey Avenue SE., Docket Operations, M-30, West Building Ground Floor, Room W12-140, Washington, DC 20590, between 9 a.m. and 5 p.m., Monday through Friday, except Federal holidays.

Instructions for submitting comments: You must include the agency name (Federal Transit Administration) and Docket number (FTA-2009-0013) for this notice at the beginning of your comments. You should submit two copies of your comments if you submit them by mail or courier. For confirmation that FTA has received your comments, you must include a self-addressed stamped postcard. Note that all comments received will be posted without change to www.regulations.gov, including any personal information provided, and will be available to Internet users. You may review DOT's complete Privacy Act Statement in the Federal Register published April 11, 2000, (65 FR 19477), or you may visit www.regulations.gov.

For Proposals: Proposals must be submitted electronically via e-mail at FTA-TIGGER@dot.gov. FTA will announce grant selections in the Federal Register when the selection process is complete.

This announcement is available on the Internet on the FTA Web site at: http://www.fta.dot.gov. FTA will take all comments into consideration and may publish a follow up document revising some elements of the proposal. If FTA determines that no substantive changes need be made in the Notice of Funding Availability, then all comments will be responded to when FTA publishes a Federal Register notice announcing the successful proposals. Proposals must be submitted to FTA electronically at FTA-TIGGER@dot.gov and applicants should receive a confirmation e-mail within 2 business days. A synopsis of this announcement will be posted in the FIND module of the government-wide electronic grants Web site at http://www.grants.gov. However, applicants will not be able to apply through the APPLY module of that site. Mail and fax submissions will not be accepted.

FOR FURTHER INFORMATION CONTACT: Contact the appropriate FTA Regional Office (see Appendix A) for application-specific information and issues. For general program information, contact Walter Kulyk, Office of Mobility Innovation, (202)366-4995, e-mail: walter.kulyk@dot.gov. A TDD is available at 1-800-877-8339 (TDD/FIRS). A TDD is available at 1-800-877-8339 (TDD/FIRS).

SUPPLEMENTARY INFORMATION: FTA invites interested parties to comment on the TIGGER program elements as outlined below. FTA intends to respond and provide any revisions to the notice of funding availability in a subsequent notice.

Table of Contents

I. Overview of this Notice

II. Eligibility Information

III. Proposal and Submission Information

IV. How Proposals Will Be Evaluated

V. Award Administration Information

VI. Technical Assistance

Appendix A—FTA Regional and Metropolitan Offices

Appendix B—Glossary of Terms

Appendix C—Proposal Outline

Appendix D—Project Measurement Guidelines

Appendix E—Tables

I. Overview of This Notice

The American Recovery and Reinvestment Act (ARRA) was enacted on February 17, 2009. While the total amount in ARRA is $787 billion, $8.4 billion was appropriated to FTA for transit capital improvements and reinvestment. Of this $8.4 billion, $100 million is appropriated for a new program to provide direct funding to public transit agencies for “capital investments that will assist in reducing the energy consumption or greenhouse gas emissions of their public transportation systems * * * .”

The program will take place in phases. Today's Federal Register notice requests proposals be submitted by May 22, 2009. In addition, because this is a new program, we are requesting comments on the proposed program outline, structure, and requirements. FTA will take all comments into consideration and may publish a follow up document revising some elements of its proposal. If FTA determines that no substantive changes need to be made in this Notice of Funding Availability (NOFA), all comments will be responded to when FTA publishes a Federal Register notice announcing the successful proposals. If substantive changes are necessary, FTA may publish a supplemental Federal Register notice and request for applications. Depending on the nature of the comments and the number of initial proposals received, FTA may award funds based on the initial proposals.

The ARRA authorizes two purposes for these new grants: first, for capital investments that will assist in reducing the energy consumption of a transit system; or, second, for capital investments that will reduce greenhouse gas emissions of a public transportation system. Proposals for projects may be submitted under either or both categories. To ensure that the purposes of the ARRA are met, FTA has established a range of funding that will be considered for approval. Each submitted proposal must request a minimum of $2,000,000. FTA will allow consolidated proposals from transit agencies to reach this $2,000,000 threshold, thus, individual projects within a proposal may receive less than $2,000,000. Conversely, to ensure a variety of projects are funded, FTA has established a maximum grant amount of $25,000,000.

II. Eligibility Information

A. Eligible Recipients

Eligible recipients under this program are public transportation agencies.

B. Eligible Applicants

Any public transportation agency may apply. Since the minimum proposal that will be accepted is $2,000,000, eligible applicants may submit a consolidated proposal either directly, through a designated recipient, a Metropolitan Planning Organization (MPO), State Transit Association, Transportation Management Association (TMA), or through a State Department of Transportation. Grant awards will be made for particular projects directly to public transportation agencies.

C. Eligible Expenses

Eligible expenses must meet the following criteria: (1) The expense must be an eligible capital expense as defined under 49 U.S.C. 5302(a)(1); and (2) The project will assist in the reduction of the energy consumption of a public transportation system or the reduction of greenhouse gas emissions of a public transportation system. This excludes some elements of the statutory definition of a capital project, such as fleet expansion or fixed guideway extensions because these types of projects would increase transit agency energy consumption.

D. Cost Sharing or Matching

The Federal share for TIGGER grants is 100 percent, although applicants may request a lower Federal share.

III. Proposal and Submission Information

A. Proposal Submission Process

Proposals must be submitted by e-mail to FTA-TIGGER@dot.gov. A synopsis of this announcement will be posted in the “FIND” module of the government-wide electronic grants Web site at http://www.grants.gov. However, applicants will not be able to apply through the “APPLY” module of that site. Mail and fax submissions will not be accepted.

Because funding in the ARRA programs is intended to sustain or create jobs and promote economic recovery, each proposed project should be ready to implement once the grant is awarded and should be completed in a reasonable period of time.

Successful applicants will apply for funds through FTA's TEAM system. FTA may require revisions, such as a reduction in project budget, before a grant award is submitted in TEAM.

B. Proposal Content

Proposals may contain one project from one transit agency, projects from multiple public transit agencies, or multiple projects from one public transit agency. Combined proposals must contain applicant information for each agency. Proposals with multiple projects must contain project information for each project. See Appendix C for an outline of proposal requirements.

(1) Proposal Summary

A proposal should include a list of each project and sponsoring applicant.

(2) Applicant Information

This addresses basic identifying information, including:

a. Applicant name;

b. Contact information (including contact name, address, e-mail address, phone number and fax number;

c. Description of services provided by the agency, including areas served;

d. If proposal includes vehicles, include existing fleet information, such as a current rail or bus fleet management plan, if not already on file with the FTA Regional Office, and

e. A description of your technical capacity to implement the proposed project.

(3) Project Information

For each project, every proposal must: (a) Identify whether the project is to be evaluated under energy reduction or greenhouse gas reduction criteria or both criteria; (b) Describe the scope of the project, including the proposed capital investment as well as the existing system, subsystem, facility, vehicle, or component that the investment will replace or be applied to. The project scope determines where measurement of energy reductions or greenhouse gas emissions reductions will take place and must be directly related to the actual capital investment. It should be determined in a manner that permits measurement before and after the investment to determine either the energy savings or greenhouse gas reductions. For example, a project could consist of replacing 10 buses in a 100 vehicle bus fleet with more energy-efficient buses. In this case, measurement would focus on the 10 vehicles, not the entire fleet. As another example, a project could consist of including wayside energy storage for a rail system to capture regenerated energy. In this case, the measurement could focus on the energy use of the rail lines where the investment takes place, not the entire rail system. As a third example, a project could consist of multiple investments (e.g., compact fluorescents, solar panels) to reduce the energy use of a bus maintenance facility. In that case, the measurement could be the energy use of the entire facility; (c) Provide a line item budget for the project and its total cost and for scalable projects include the minimum amount necessary to implement the project if FTA were not to fund the total cost; (d) Identify the expected useful life of the investment; and (e) Provide brief project time-line outlining steps from project development through completion, including significant milestones such as date of contract awards and dates of project implementation (e.g. when vehicles will begin revenue service).

(4) Project Measurement Information

A proposal must provide narrative information for each project describing how the estimates provided in the summary tables were calculated. See Appendix D—Project Measurement Guidelines provides information on the step-by-step process agencies should follow in developing their calculations. The proposals should provide information for each step described in Appendix D. Proposals also should identify the process the agency will use to determine the actual energy savings or greenhouse gas emission reductions realized once the investment is implemented.

(5) A proposal should include a project measurement summary for either or both the energy consumption reduction or greenhouse gas emission reduction programs. (See Appendix E—Tables.) FTA will post on its Web site: www.fta.dot.gov a Microsoft Excel spreadsheet that may be used to develop these tables.

(6) A proposal should address each of the evaluation criteria separately.

C. Funding Restrictions

Only proposals from eligible recipients for eligible activities will be considered for funding (see Section III of this Notice). FTA may decide to provide only partial funding for certain proposals to maximize the impact of this program.

IV. How Proposals Will Be Evaluated

Energy consumption reduction and greenhouse gas reduction projects will be evaluated separately. An applicant may request evaluation under both criteria if it provides the necessary project measurement information. Two criteria are specific to energy consumption reduction projects and one criterion is specific to greenhouse gas reduction projects. The remaining criteria apply to all projects.

A. Project Evaluation Criteria for Energy Consumption Reduction Projects

FTA will evaluate projects on total energy consumption savings projected to result from the project, and projected energy savings of the project as a percentage of the total energy usage of the public transit agency. Refer to Appendix B for definitions.

B. Project Evaluation Criterion for Greenhouse Gas Emission Reduction Projects

FTA will evaluate projects based on the total amount of greenhouse gas reductions projected to result from the project.

C. Project Evaluation Criteria for All Projects

In addition, FTA will evaluate all projects on the following criteria:

(1) Return on Investment. This includes the ratio of energy savings or greenhouse gas reductions per dollar of Federal TIGGER funds invested.

(2) Project Readiness. The Project Is Ready To Implement.

a. Any required environmental work has been initiated for construction projects requiring an Environmental Finding.

b. Implementation plans are ready, including initial design of facilities projects.

c. the Metropolitan Transportation Improvement Program/State Transportation Improvement Program (TIP/STIP) can be amended.

d. Project can be obligated and implemented quickly, if selected.

(3) The applicant demonstrates the capacity to carry out the project.

a. The applicant is in fundable status for the FTA grant program

b. The applicant demonstrates the technical capacity to carry out the project including the project approach or project management plan.

c. The applicant has systems and internal controls in place that allow it to separately track and report ARRA funds even used to fund an existing project/activity.

d. The applicant has the ability to collect information and demonstrate the results of the project for at least one year following project implementation.(But note that useful life criteria apply for FTA funded assets.)

(4) Project Innovation. The project identifies a unique, significant, or innovative approach to reducing energy consumption or greenhouse gas emissions not currently in widespread practice within the transit industry or an approach distinct from the other proposals received by FTA.

(5) The national applicability of the project as an example of energy savings or greenhouse gas reductions including whether the project could be replicated by other transit agencies regionally or nationally.

D. Review and Selection Process

Proposals first will be screened by FTA program staff. After evaluating proposals based on the established technical criteria, the FTA review team will provide recommendations to the FTA Administrator. FTA will publish the list of all selected projects and funding levels in the Federal Register.

V. Award Administration Information

A. Award Notices

FTA will screen all proposals to determine whether all required eligibility elements, as described in III. “Eligibility Information” are provided. Once proposals have been reviewed and projects have been selected, FTA will award funds to the public transit agency to implement the project. FTA will award funding to successful applicants through a grant in FTA's TEAM grant management system. These grants will be administered and managed by FTA regional offices in accordance with the federal requirements of 49 U.S.C. Chapter 53.

B. Administrative and National Policy Requirements

Information about general requirements for FTA grant programs funded by ARRA can be found in the Federal Register Notice American Recovery and Reinvestment Act of 2009 Public Transportation Apportionments, Allocations and Grant Program Information, (74 FR 9656, March 5, 2009) and posted on our Web site (www.fta.dot.gov).

(1) Grant Requirements. If selected, project sponsors will apply for a grant through TEAM and adhere to the customary FTA grant requirements of 49 U.S.C. Chapter 53, including those identified in FTA Circular 5010.1D and the FTA Master Agreement. Technical assistance regarding these requirements is available from each FTA regional office.

All recipients and their sub-awardees are required to have a DUNS number (www.dnb.com) and a current registration in the Central Contractor Registration (www.ccr.gov).

Recipients of ARRA funds must have systems and internal controls that allow them to separately track and report ARRA funds even if the funds are being used to fund an existing project/activity.

Applicants must sign and submit current Certifications and Assurances before receiving a grant. Annual certifications and assurances filed by a grantee for Fiscal Year 2009 under FTA's regular program meet this requirement. The Applicant assures that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and may affect the implementation of the project. The Applicant agrees that the most recent Federal requirements will apply to the project, unless FTA issues a written determination otherwise.

FTA will not amend its standard grant agreement for the purposes of the ARRA. However, to the extent the ARRA imposes additional requirements they will be reflected as special conditions in individual grant documents.

(2) Planning. Applicants are encouraged to notify the appropriate State DOT and MPO in areas likely to be served by the project funds made available under this program. Incorporation of funded projects in the long range plans and transportation improvement programs of States and metropolitan areas is required of all funded projects. FTA cannot obligate grant funds unless the project is contained in a federally approved STIP.

Similarly, all environmental requirements must be complete before FTA can obligate and award a grant in TEAM.

C. Reporting Requirements

FTA reporting requirements include standard reporting requirements identified in FTA Circular 5010.1D, and the Master Grant Agreement. In addition under ARRA, the TIGGER program has additional reporting requirements. A recipient of TIGGER funds must report on an annual basis:

(1) Actual annual energy consumed within the project scope attributable to the investment, for energy consumption reduction projects;

(2) Actual greenhouse gas emissions within the project scope attributable to the investment, for greenhouse gas reduction projects;

(3) Actual annual reductions or increases in operating costs attributable to the investment, for all projects.

As a condition of award, grantees receiving ARRA funds will be required to report on grant activities on a routine basis. FTA grantees will be responsible for reporting up-to-date and accurate information in a milestone status report and financial status report on a quarterly basis, as well as additional data elements that are required to be reported in www.recovery.gov. Additionally, special certifications and grant conditions also will be required of ARRA grant recipients, such as:

a. One-Time Funding. The Recipient acknowledges that receipt of ARRA funds is a “one-time” disbursement that does not create any future obligation by the FTA to advance similar funding amounts.

b. Integrity. The Recipient agrees that all data it submits to FTA in compliance with ARRA requirements will be accurate, objective, and of the highest integrity.

c. Violations of Law. The Recipient agrees that it and its subrecipients shall report any credible evidence that a principal, employee, agent, contractor, subrecipient, subcontractor, or other person has submitted a false claim under the False Claims Act or has committed a criminal or civil violation of law pertaining to fraud, conflict of interest, bribery, gratuity, or similar misconduct involving ARRA funds.

d. Maintenance of Effort. A Recipient that is a State agrees to comply with the maintenance of effort certification it has made in compliance with Section 1201 of ARRA.

e. Emblems. The Recipient agrees to identify projects supported by FTA by attaching the appropriate emblems as the Federal Government may require.

f. Reporting Requirements. In addition to other Federal reporting requirements applicable to the type of project undertaken, the Recipient agrees to

(1) Comply with the reporting requirements of ARRA, Section 1201(c) and (f).

(2) Comply with reporting requirements and deadlines of ARRA, Section 1512. Therefore, the Recipient reports on the use of the funds and on the status of compliance with the National Environmental Policy Act by submitting the Standard Form-Performance Progress Report-Recovery form not later than 10 days after the end of each calendar quarter to FTA. The Recipients agree to obtain a Dun and Bradstreet Universal Numbering System (DUNS) number (www.dnb.com) for any first tier subrecipient that does not have a DUNS number, and agrees to maintain, and require its first tier subrecipients to maintain, active and current profiles in the Central Contractor Registration database (www.ccr.gov).

g. Further Requirements. The Recipient agrees to comply with any applicable future Federal requirements that may be imposed on the use of ARRA funds.

FTA will issue additional specific guidance on reporting requirements in the near future for your information. The ARRA statutory reporting requirements and certifications are identified below:

(1) Section 1511: Certifications

For covered funds made available to State or local governments for infrastructure investments, the Governor, mayor, or other chief executive, as appropriate, is required to certify that the infrastructure investment has received the full review and vetting required by law and that the chief executive accepts responsibility that the infrastructure investment is an appropriate use of taxpayer dollars. Such certification must include a description of the investment, the estimated total cost, and the amount of covered funds to be used, and must be posted on a specified Web site. A State or local agency may not receive infrastructure funds made available under ARRA unless this certification is made and posted.

On February 27, 2009, USDOT Secretary LaHood sent letters to all Governors providing guidance and a template for this certification and instructing them to send the Section 1511 certification and the other two certifications by the Governor described below to the Department at the following address: TigerTeam@dot.gov. A single certification by the Governor, based on the established planning process, and including a link to a Web site posting of the Statewide Transportation Improvement Program, which must contain the required section 1511 information for each investment, will satisfy the requirement for certification by the Governor for both FHWA and FTA projects. FTA will provide further guidance in the near future about any additional certifications that may be required by local officials to ensure that all ARRA projects have been properly vetted.

(2) Section 1512: Reports on Use of Funds

Recipient Reports.—Not later than 10 days after the end of each calendar quarter, each recipient of ARRA funds from a Federal agency shall submit a report to that agency that contains—

(A) The total amount of recovery funds received from that agency;

(B) The amount of recovery funds received that were expended or obligated to projects or activities; and

(C) A detailed list of all projects or activities for which recovery funds were expended or obligated, including—

(i) The name of the project or activity;

(ii) A description of the project or activity;

(iii) An evaluation of the completion status of the project or activity;

(iv) An estimate of the number of jobs created and the number of jobs retained by the project or activity; and

(v) For infrastructure investments made by State and local governments, the purpose, total cost, and rationale of the agency for funding the infrastructure investment with funds made available under ARRA, and name of the person to contact at the agency if there are concerns with the infrastructure investment.

(D) detailed information on any subcontracts or subgrants awarded by the recipient to include the data elements required to comply with the Federal Funding Accountability and Transparency Act of 2006 (Pub. L. 109-282), allowing aggregate reporting on awards below $25,000 or to individuals, as prescribed by the Director of the Office of Management and Budget.

The data elements required to comply with Public Law 109-282 are: name of entity receiving the award; the amount of the award; information on the award including transaction type, funding agency, the North American Industry Classification System Code or Catalog of Federal Domestic Assistance number (where applicable); program source; and an award title descriptive of the purpose of each funding action.

FTA will extract as much as possible of this information from grant information and standard reports provided through its TEAM electronic grants award and management system. Supplemental reporting may be required, however, to provide the project and contract level information. FTA will provide further reporting instructions at a later date. FTA is working with other modal administrations within the United States Department of Transportation (USDOT) to standardize the information required from all USDOT recipients.

Additional frequency of reporting may be required to be responsive to Congressional oversight requirements.

(3) Section 1512(h): Registration

Recipients of ARRA funds that are required to report information per section 1512(c) (4) must register with Central Contractor Registration database (CCR) or complete other registration requirements as determined by the Director of the Office of Management and Budget (OMB).

The reporting and registration requirements are effective September 1 2009. OMB has not yet determined whether to use the CCR or some other registration database. However, OMB has issued guidance requiring FTA and other Federal agencies to ensure that grantees and first tier subawardees (subrecipients and contractors) obtain a DUNS number, or update their DUNS record if necessary. OMB has not yet issued a final determination on the extent to which subawardees will be required to register in CCR.

(4) Section 1201(a): Maintenance of Effort

Not later than March 19, 2009, for each amount that is distributed to a State or its agency from an appropriation in ARRA for a covered program, the Governor of that State is required to certify to the Secretary of Transportation that the State will maintain its effort with regard to State funding for the types of projects that are funded by the appropriation. As part of this certification, the Governor is required to submit to the Secretary of Transportation a statement identifying the amount of funds the State planned to expend from State sources as of February 17, 2009, during the period of February 17, 2009 through September 30, 2010, for the types of projects that are funded by the appropriation.

This requirement applies only to State funding for transportation projects eligible for ARRA funding. USDOT will treat this maintenance of effort requirement through one consolidated certification from the Governor to the Secretary, which must include State funding for transit projects, as well as highway and other transportation modal projects.

(5) Section 1201(2)(c): Periodic Reports

For amounts received under each covered program by a grant recipient under ARRA, the grant recipient shall include in the periodic reports information tracking:

(A) The amount of Federal funds appropriated, allocated, obligated, and outlaid under the appropriation;

(B) the number of projects that have been put out to bid under the appropriation;

(C) the number of projects for which contracts have been awarded under the appropriation and the amount of Federal funds associated with such contracts;

(D) the number of projects for which work has begun under such contracts and the amount of Federal funds associated with such contracts;

(E) the number of projects for which work has been completed under such contracts and the amount of Federal funds associated with such contracts;

(F) the number of direct, on-project jobs created or sustained by the Federal funds provided for projects under the appropriation and, to the extent possible, the estimated indirect jobs created or sustained in the associated supplying industries, including the number of job-years created and the total increase in employment since February 17, 2009 and

(G) the actual aggregate expenditures by each grant recipient from State sources for projects eligible for funding under the program during the period of February 17, 2009 through September 30, 2010, as compared to the level of such expenditures that were planned to occur during such period as of the date of enactment of the ARRA.

Each grant recipient is required to submit the first of the periodic reports required not later than 90 days from February 17, 2009.

FTA will extract as much of this information as possible from grant information and standard reports provided through the TEAM electronic grants award and management system. Supplemental reporting may be required, however, to provide the project and contract level information. FTA will provide further reporting instructions at a later date. FTA is working with other modal administrations within DOT to standardize the information required from all DOT recipients, including the possibility of generating the required jobs data through the use of economic models and factors applied to the data provided in the grant awards and other information reported by the grantee.

(6) Section 1607

Section 1607 requires that the Governor certify within 45 days of enactment (April 3, 2009) that, for funds provided, the state will request and use funds provided by this Act and the funds will be used to create jobs and promote economic growth. If the Governor does not provide this certification, then the state legislature may act to accept the funds.

(7) Section 1609

Under section 1609(c), FTA is required to report to certain congressional committees every 90 days following enactment on the status and progress of projects funded or proposed for funding under the ARRA with respect to compliance with the National Environmental Policy Act (NEPA) and its implementing regulations. FTA will request assistance from grant recipients in compiling this quarterly report.

(8) Other Reporting

To satisfy the needs for transparency and accountability related to funding appropriated under the ARRA, grantees may be required to provide additional information not yet specified in response to requests from the Office of Management and Budget (OMB), the Congressional Budget Office (CBO), the Government Accountability Office (GAO), or the USDOT Inspector General (IG) or the Recovery Accountability and Transparency Board. FTA will inform grantees if and when such additional reports are required.

VI. Technical Assistance

FTA will post answers to common questions about the program as well as a Microsoft Excel spreadsheet for assistance in calculations at www.fta.dot.gov. Technical assistance regarding these requirements is available from each FTA regional office. The regional offices will contact those applicants selected for funding regarding general and ARRA-specific grants and reporting requirements and will provide assistance in preparing the documentation necessary for the grant award.

Contact the appropriate FTA Regional or Metropolitan Office (see Appendix A) for application-specific information and issues. For general program information, contact Walter Kulyk, Office of Mobility Innovation, (202) 366-4995, e-mail: walter.kulyk@dot.gov. A TDD is available at 1-800-877-8339 (TDD/FIRS).

Issued in Washington, DC, this 19th day of March, 2009.
Matthew J. Welbes,
Acting Deputy Administrator.

Appendix A—FTA Regional and Metropolitan Offices
Richard H. Doyle, Regional Administrator, Region 1-Boston, Kendall Square, 55 Broadway, Suite 920, Cambridge, MA 02142-1093, Tel. 617 494-2055. | Robert C. Patrick, Regional Administrator, Region 6-Ft. Worth, 819 Taylor Street, Room 8A36, Ft. Worth, TX 76102, Tel. 817 978-0550.
States served: Connecticut, Maine, Massachusetts, New Hampshire, Rhode Island, and Vermont. | States served: Arkansas, Louisiana, Oklahoma, New Mexico and Texas.
Brigid Hynes-Cherin, Regional Administrator, Region 2-New York, One Bowling Green, Room 429, New York, NY 10004-1415, Tel. No. 212 668-2170. | Mokhtee Ahmad, Regional Administrator, Region 7-Kansas City, MO 901 Locust Street, Room 404, Kansas City, MO 64106, Tel. 816 329-3920.
States served: New Jersey, New York, New York Metropolitan Office, Region 2-New York, One Bowling Green, Room 428, New York, NY 10004-1415, Tel. 212-668-2202. | States served: Iowa, Kansas, Missouri, and Nebraska.
Letitia Thompson, Regional Administrator, Region 3-Philadelphia, 1760 Market Street, Suite 500, Philadelphia, PA 19103-4124, Tel. 215 656-7100. | Terry Rosapep, Regional Administrator, Region 8-Denver, 12300 West Dakota Ave., Suite 310, Lakewood, CO 80228-2583, Tel. 720-963-3300.
States served: Delaware, Maryland, Pennsylvania, Virginia, West Virginia, and District of Columbia. | States served: Colorado, Montana, North Dakota, South Dakota, Utah, and Wyoming.
Philadelphia Metropolitan Office, Region 3-Philadelphia, 1760 Market Street, Suite 500, Philadelphia, PA 19103-4124, Tel. 215-656-7070. |
Washington, DC Office, 1990 K St NW., Suite 510, Washington, DC 20006. |
Phone: (202) 219-3562 or (202) 219-3565, Fax: (202) 219-3545. |
Yvette Taylor, Regional Administrator, Region 4-Atlanta, 230 Peachtree Street, NW., Suite 800, Atlanta, GA 30303, Tel. 404 562-3500. | Leslie T. Rogers, Regional Administrator, Region 9-San Francisco, 201 Mission Street, Suite 1650, San Francisco, CA 94105-1926, Tel. 415 744-3133.
States served: Alabama, Florida, Georgia, Kentucky, Mississippi, North Carolina, Puerto Rico, South Carolina, Tennessee, and Virgin Islands. | States served: American Samoa, Arizona, California, Guam, Hawaii, Nevada, and the Northern Mariana Islands.
| Los Angeles Metropolitan Office, Region 9-Los Angeles, 888 S. Figueroa Street, Suite 1850, Los Angeles, CA 90017-1850, Tel. 213-202-3952.
Marisol Simon, Regional Administrator, Region 5-Chicago, 200 West Adams Street, Suite 320, Chicago, IL 60606, Tel. 312 353-2789. | Rick Krochalis, Regional Administrator, Region 10-Seattle, Jackson Federal Building, 915 Second Avenue, Suite 3142, Seattle, WA 98174-1002, Tel. 206 220-7954.
States served: Illinois, Indiana, Michigan, Minnesota, Ohio, and Wisconsin, Chicago Metropolitan Office, Region 5-Chicago, 200 West Adams Street, Suite 320, Chicago, IL 60606, Tel. 312-353-2789. | States served: Alaska, Idaho, Oregon, and Washington.

Appendix B—Glossary of Terms

Energy Use of the Public Transportation System is energy expressed in British Thermal Units (BTUs) (e.g., fuel, electricity, steam) using the lower (net) heating value purchased directly by the public transportation system. It includes both revenue and non revenue operations directly operated by the agency, but not energy used for purchased services. It includes fuel used by an agency to generate energy, but not energy generated by an agency. As an example, a diesel generator operated by an agency would count the diesel used by the generator but not the electricity produced by the generator. Energy produced on-site using solar or wind power is also not counted as part of consumption.

Greenhouse Gases are gases that trap heat in the atmosphere expressed in metric tons of CO2 equivalent. The principal greenhouse gases that enter the atmosphere because of human activities are: Carbon Dioxide (CO2); Methane (CH4); Nitrous Oxide (N2O); and Fluorinated Gases (Hydrofluorocarbons, perfluorocarbons, and sulfur hexafluoride)

Greenhouse Gas Emissions of the Public Transportation Agency are greenhouse gas emissions from public transportation systems vehicles or facilities, otherwise known as direct emissions. It does not include indirect emissions (e.g., from third-party power plants) or displaced emissions (e.g., emissions from manufacturing transit equipment, waste disposal, emissions released outside the transit agency service area, etc.)

Project is the proposed capital investment as well as the existing system, subsystem, facility, vehicle, or component that the investment will replace or be applied to. The project scope determines where measurement of energy reductions or emissions reductions will take place and must be directly related to the actual capital investment.

Total Project Energy Savings is the estimated annual project energy savings multiplied by the expected useful life of the investment.

Total Project Greenhouse Gas Emission Reductions is the estimated annual project greenhouse gas emission reductions multiplied by the expected useful life of the investment.

Appendix C—Proposal Outline

Each proposal must contain the following information.

1. A list of each project, and sponsoring applicant

2. Applicant information: For each transit agency included in the proposal, the information should include:

a. Applicant name,

b. Contact information

c. Description of services provided by the agency and areas served

d. If proposal includes vehicles, include existing fleet information, such as a current rail or bus fleet management plan, if not already on file with the FTA Regional Office, and

e. A description of their technical, legal, and financial capacity to implement the proposed project.

3. Project Information: For each project proposed, the information should include:

a. Whether the project is to be evaluated under energy reduction, greenhouse gas reduction criteria, or both.

b. A description of the scope of the project.

c. Provide a line item budget for the project and its total cost and for scalable projects include the minimum amount necessary to implement the project if FTA were not to fund the total cost.

d. Identify the expected useful life of the investment

e. Provide brief project time-line outlining steps from project development through completion, including significant milestones such as date of contract awards and dates of project implementation (e.g. when vehicles will begin revenue service).

4. Project Measurement Criteria for Energy Reduction projects: Proposals should identify the process the agency will use to determine the actual energy savings once the investment is implemented. For each project proposed to reduce energy consumption the proposal should include:

a. Project's Current Annual Energy Use

b. Project's Estimated Annual Energy Use

c. Project's Estimated Annual Energy Savings

d. Project's Total Energy Savings

e. Project's Total Energy Savings as a Percentage of the Agency's Total Energy Use. This can be reported as less than one percent or the proposal must include:

i. Total reported Energy Consumption

ii. Total non-reported Energy Consumption

iii. Total Energy Consumption of the Public Transportation Agency

iv. The Project's Total Energy Savings as a percentage of the Total Energy Consumption of the Public Transportation Agency

5. Project Measurement Criteria for Greenhouse Gas Emission Reduction projects: Proposals should identify the process the agency will use to determine the greenhouse gas emission reductions once the investment is implemented. For each project proposed to reduce greenhouse gas emissions the proposal should include:

a. Project's Current Annual Greenhouse Gas Emissions

b. Project's Estimated Annual Greenhouse Gas Emissions

c. Project's Estimated Annual Greenhouse Gas Savings

d. Project's Total Greenhouse Gas Savings

6. Project Measurement Summaries (Tables 1 and or 2 in Appendix C). FTA will post on its Web site: www.fta.dot.gov a Microsoft Excel spreadsheet that may be used to develop these tables.

7. Address each of the evaluation criteria separately.

a. Return on Investment—no additional information is required

b. The Project Is Ready To Implement—the proposal should address whether:

i. Any required environmental work has been initiated for construction projects requiring an Environmental Finding.

ii. Implementation plans are ready, including initial design of facilities projects.

iii. TIP/STIP can be amended.

iv. Project can be obligated and implemented quickly, if selected.

c. The applicant demonstrates the capacity to carryout the project—the proposal should address whether:

i. The applicant is in fundable status for the FTA grant program

ii. The applicant demonstrates the technical capacity to carry out the project, including the project approach or project management plan.

iii. The applicant has systems and internal controls that allow them to separately track and report Recovery Act funds even if the funds are being used to funds an existing project/activity.

iv. The applicant has the ability to collect information on the results of the project for one year following the project's implementation.

d. The degree of innovation in a project—the proposal should address whether the project identifies a unique or significant approach to reducing energy consumption or greenhouse gas emissions not currently in widespread practice within the industry or an approach distinct from the other proposals received.

e. The national applicability of the project as an example of energy savings or greenhouse gas reductions—the proposal should address whether the project identified could be replicated by other transit agencies regionally or nationally.

Appendix D—Project Measurement Guidelines

I. Projects Measured Under The Energy Consumption Reduction Focus of ARRA

Energy consumption is the total annual energy (e.g., fuel, electricity, steam) purchased directly by the public transportation system. It includes both revenue and non revenue operations directly operated by the agency, but not energy used for purchased services. It includes fuel used by an agency to generate energy, but not energy generated by an agency. As an example, a diesel generator operated by an agency would count the diesel used by the generator but not the electricity produced by the generator. Energy produced on-site using solar or wind power is also not counted as part of consumption.

When calculating energy consumption, all initial figures should be expressed in both the typical units for that energy source (e.g. gallons or kWh) and in British Thermal Units (BTUs), using the lower (net) heating value. The Center for Transportation Analysis of Oakridge National Laboratory of the Department of Energy provides information and links on how to convert typical energy units to BTUs in the Transportation Energy Data Book at http://cta.ornl.gov/data/tedb27/Edition27_Appendix_B.pdf. All final calculations should be performed in BTUs. Agency's annual data should be based on the most recent year for which 12 continuous months of data is available, but no earlier than 2007 data.

A. Total Project Energy Savings

(i) Project's Current Annual Energy Use. The proposal must identify the current annual energy use of the project scope that the proposed investment is to be applied to or replace and describe how this was calculated.

(ii) Project's Estimated Annual Energy Use. The proposal must identify the estimated annual energy use of the same project scope for when the project is implemented.

(iii) Project's Annual Energy Savings. The proposal must subtract the project's estimated annual energy use from the project's current annual energy use. This is the estimated annual project energy savings.

(iv) Total Project Energy Savings. The proposal must multiply the estimated annual project energy savings by the expected useful life of the investment.

B. Total Project Energy Savings as a Percentage of the Total Energy Use of the Public Transportation Agency

(i) For some projects, the estimated total project energy savings as a percentage of the total energy use of the public transportation system will be less than one percent. In those cases the proposal may identify the total savings as less than one percent without further calculations provided.

(ii) If the agency estimates that the total project energy savings as a percentage of the total energy use of the public transportation system will be greater than one percent, the proposal must include the following:

(1) Reported Energy Consumption. The proposal must identify directly operated annual bus and rail propulsion energy consumption. This is normally reported to the National Transit Database (see “Table 17: Energy Consumption by Public Transit Entity”). However, the proposal should use data from the same time period as being used for the rest of the calculations, which is not necessarily the data reported in NTD.

(2) Non-reported Energy Consumption. The proposal must estimate energy consumption for all energy consumed by the agency not reported in Table 17. The estimate should include a listing of what related vehicles, facilities, systems, and equipment are included and how the total energy consumption for each was calculated. This will need to be supported by the applicant's own data.

(3) Total Energy Use of the Public Transportation Agency. The proposal must add reported energy consumption with non-reported energy consumption.

(4) For each project, the proposal must divide the estimated total project energy savings by the total energy use of the public transportation agency.

II. Projects To Be Evaluated Under Greenhouse Gas Reduction Focus of the ARRA

Only projects that will reduce greenhouse gas emissions of the public transportation system, otherwise known as direct emissions (e.g. emissions from their vehicles or facilities) are eligible under this program. Projects intended to reduce indirect emissions (e.g., from third-party power plants) or displaced emissions (e.g., emissions from manufacturing transit equipment, waste disposal, emissions released outside the transit agency service area, etc.) are ineligible. As an example, an electric heavy-rail system consuming electricity purchased from a third-party power plant would be considered to have zero greenhouse gas emissions, irrespective of the type of power plant or the greenhouse gases emitted in the production and construction of the system and equipment.

The most common greenhouse gas emitted by public transportation agencies is carbon dioxide (CO2). If the proposal estimates reductions to other greenhouse gases they must be converted to their CO2 equivalent. Agency's annual data should be based on the most recent year they for which a full year's worth of data is available, but no earlier than 2007 data.

In most cases, CO2 emissions should be calculated by multiplying energy use by an appropriate emission factor (e.g., approximately 9.17 kg of CO2 are emitted per gallon of diesel fuel burned) outlined below. The Environmental Protection Agency provides information and a calculator on greenhouse gas conversions at: http://www.epa.gov/solar/energy-resources/calculator.html.

Data should be reported in metric tons of CO2 equivalent. If an agency uses another procedure, it should clearly justify and describe its calculations.

A. Project's Total Estimated Greenhouse Gas Reduction

(i) Project's Current Annual Greenhouse Gas Emissions. The proposal must identify the current greenhouse gas emissions of the project scope that the proposed investment is to be applied to or replace.

(1) The proposal should identify the energy source, the project's current annual energy use (as calculated above), and multiply the project's current annual energy use by the appropriate emission factor.

(2) Project's Estimated Annual Greenhouse Gas Emissions. The proposal must identify the estimated annual greenhouse gas emissions of the same project scope when the project is implemented.

(a) The proposal should identify the project's new energy source (if applicable), the project's estimated annual energy use (as calculated above), and multiply the project's estimated annual energy use by the appropriate emission factor.

(b) Project's Estimated Annual Greenhouse Gas Reduction. The proposal must subtract the project's estimated annual greenhouse gas emissions from the project's current annual greenhouse gas emissions.

(c) Project's Estimated Total Greenhouse Gas Reduction. The proposal must multiply the project's estimated annual greenhouse gas reduction by the estimated useful life of the investment.

Appendix E—Tables

FTA will post on its Web site: www.fta.dot.gov a Microsoft Excel spreadsheet that may be used to develop these tables.

Table 1—For Energy Consumption Reduction Projects
A1. Agency | A2. Total Agency Reported Energy Use | A3. Total Agency Non-Reported Energy Use | A4. Total Agency Energy Use | Note: For some projects, the estimated total project energy savings as a percentage of the total energy use of the public transportation system will be less than one percent. In those cases the proposal may identify the total savings as less than one percent for E8 and need not fill in A2-A4.
Agency X | xx | xx | xx |
E1. Project Scope (Title) | E2. Cost | E3. Estimated Project Useful Life | E4. Project's Current Annual Energy Use | E5. Project's Estimated Annual Energy Use | E6. Project's Annual Energy Savings | E7. Total Project Energy Savings | E8. Total Savings as % of Total Use
Project 1 | Project Cost | xx | xx | xx | E4-E5 | E5 X E3 | E7/A4
Project 2 | Project Cost | xx | xx | xx | E4-E5 | E5 X E3 | E7/A4
Project 3 | Project Cost | xx | xx | xx | E4-E5 | E5 X E3 | E7/A4

Table 2—For Greenhouse Gas Emission Reduction Projects
Agency name:: G1. Project scope (Title) | Agency name:: G2. Cost | Agency name:: G3. Estimated project useful life | Agency name:: G4. Project's current annual CO2 equivalent emissions | Agency name:: G5. Project's estimated annual CO2 equivalent emissions | Agency name:: G6. Project's estimated annual CO2 emission reductions | Agency name:: E7. Total project CO2 emission reductions
Project 1 | Project Cost | xx | xx | xx | G4-G5 | G6 X G3
Project 2 | Project Cost | xx | xx | xx | G4-G5 | G6 X G3

[FR Doc. E9-6420 Filed 3-23-09; 8:45 am]

BILLING CODE 4910-57-P